DEPARTMENT OF AGRICULTURE

Forest Service

Dixie National Forest, UT, Dixie National Forest Motorized Travel Plan

AGENCY: Forest Service, USDA.

ACTION: Notice of intent to prepare an environmental impact statement.

SUMMARY: Notice is hereby given that the Dixie National Forest intends to prepare an environmental impact statement (EIS) for the Forest Service to establish a system of designated roads, trails and areas for motorized vehicle use, thereby developing a Motorized Travel Plan. A new Motorized Travel Plan is needed to improve the management and enforcement of motor vehicle use on these National Forest System lands and meet the requirements of national policy for travel management. This notice describes the components to be included in a new travel plan, decisions to be made, estimated dates pertaining to the project, information concerning public participation, and the names, address and roles of the agency officials involved. The project area is defined by the boundaries of Dixie National Forest, including the Pine Valley, Cedar City, Powell and Escalante Ranger Districts, as well as the Teasdale portion of the Fremont River Ranger District, now administered by the Fishlake National Forest. For the purpose of this notice, the Dixie National Forest will include the Fremont River Ranger District.

DATES: Written comments to be considered in the preparation of the Draft Environmental Impact Statement (DEIS) should be submitted by January 31, 2007, which is approximately 48 days following the publication of this notice in the Federal Register. The DEIS is expected to be available for review by June, 2007. The Record of Decision and Final Environmental Impact Statement are expected to be available by September, 2007.

ADDRESSES: Submit written comments to: Noelle Meier, Dixie National Forest, 1789 N. Wedgewood Ln., Cedar City, Utah 84720; FAX: (435) 865-3791; E-mail: comments_dixie_motorized_travel_plan@fs.fed.us.

FOR FURTHER INFORMATION CONTACT: Direct questions about the proposed action and EIS to Noelle Meier, Motorized Travel Plan Project Team Leader, by mail at 1789 N. Wedgewood Ln, Cedar City, Utah 84720; or by phone at (435) 865-3700; FAX: (435) 865-3791; E-mail: comments_dixie_motorized_travel_plan@fs.fed.us.

SUPPLEMENTARY INFORMATION:

Purpose and Need for Action

The purpose of this project is to designate a system of authorized roads, trails or areas for motor vehicle use in order to better protect natural resources, provide legal access, improve recreation management and enforcement related to motor vehicle use. This purpose and need is in accordance with 36 CFR parts 212, 251, 261, and 295 Travel Management; Designated Routes and Areas for Motor Vehicle Use; Final Rule (hereafter referred to as the “final rule”).

Overall, increased recreational use and demand on the Dixie National Forest, including increased off-highway vehicle (OHV) use, has been linked to the immense population growth of southwestern Utah, Salt Lake City and Las Vegas, Nevada over the past decade. Concurrent growth of subdivisions located within and adjacent to the Dixie National Forest has also occurred, accounting for hundreds of building permits issued annually for private residential and vacation homes. Increased OHV use and related impacts have been observed surrounding these growing forest communities.

Similar situations have occurred throughout the nation, leading to a final rule that governs OHVs and other motor vehicle use on national forests and grasslands. While Forest Service Chief Dale Bosworth states that OHV use is a legitimate form of recreation, he has identified unmanaged recreation—especially impacts from OHVs—as one of the key threats facing national forests today. Locally, as well as regionally and nationally, unmanaged OHV use on federal lands has resulted in unplanned roads and trails, erosion, watershed and habitat damage, impacts to cultural sites, and increasing degradation of recreational experiences, especially a loss in opportunities for solitude, primitive hunting and other quiet experiences. Perceptions of crowding and user conflict are occurring in some areas of the Forest, often pertaining to more intense seasonal activities such as big-game hunting.

Proposed Action

For the purposes of this project and notice, the term “route” is used to define a motorized road or trail, mapped to a location on the ground. The term “authorized route” is a National Forest System Road or Trail that is designated for motor vehicle use pursuant to 212.51 in the final rule. An “unauthorized route” is a motorized road or trail not designated for motor vehicle use pursuant to 212.51 in the final rule.

This proposal, subsequent alternatives and decision will include the following components:

1. Cross-Country Travel:

(a) Prohibition of motorized cross-country travel (off designated roads or trails) except in designated areas. Motorized cross-country travel will be prohibited except as specified for permitted uses, such as dispersed camping, firewood gathering, emergency fire suppression, search and rescue, law enforcement, military operations and Forest Service administrative use and purposes.

2. Designation of Authorized National Forest System Roads and Motorized Trails:

(a) Closure of currently authorized routes that will not be designated for motorized use, and therefore removed from the National Forest System of roads and motorized trails. These routes may be decommissioned from the National Forest System.

(b) Designation of unauthorized routes that will be added to the National Forest System of roads and motorized trails.

3. Designation of Authorized Uses of National Forest System Roads and Motorized Trails:

(a) Designation of routes that will be open to all uses.

(b) Designation of routes needed to accommodate administrative activities and permitted uses.

(c) Designation of routes needed to access to private lands, rights-of-way, easements, and other jurisdictions.

(d) Designation of routes with seasonal restrictions and/ or that allow only certain types of vehicles.

4. Construction or Relocation of Designated National Forest System Roads and Motorized Trails:

(a) Construction or relocation of routes to improve the transportation system or to meet evaluation findings specified through the environmental analysis.

The Forest Service would analyze and document direct, indirect, and cumulative environmental effects in the development of a range of alternatives. The route evaluations performed in the pre-planning stage of this project will be updated accordingly, as analysis is conducted and additional input is provided internally, by the public and other governments.

It should be noted that private land and land under the jurisdiction of other governments are located within this project boundary, but route segments contained within those lands have been excluded from this designation process. Proposed designations for routes on National Forest Lands have been made while considering adjacent land uses and a variety of legal situations. Ongoing coordination with these entities will continue throughout this project.

In 1996, the Dixie National Forest began to inventory every motorized route on the Forest. This effort resulted in a broad GPS (Global Positioning System) inventory, completed the summer of 2005. According to the Infra Database for the Dixie National Forest, approximately 6,153 total miles of motorized routes have been inventoried, with 3,856 miles accounting for authorized routes and 2,297 miles being unauthorized routes. The total number of routes on the inventory is approximately 8,071, with 2,344 being authorized routes and 5,727 being unauthorized routes.

It is believed that very few routes were missed in completing the inventory; therefore, the inventory will provide the base data layer for this travel planning project. If important routes appear to have been omitted from the inventory, the Dixie National Forest asks that knowledge of those routes be brought to the attention of agency officials as part of public involvement for this project.

The extensive route inventory has allowed the Dixie National Forest to conduct a route-by-route assessment for this planning effort. This assessment involved a detailed agency review of each motorized route for known or potential effects to the environment, legal access issues or other social uses, and was augmented by pre-planning public input. Broad, landscape-scale and site specific considerations were made, identifying opportunities to improve watershed and wildlife habitat health, as well as the connectivity of communities, and recreational access. Opportunities to improve non-motorized and motorized trail systems and to facilitate desirable recreation activities were also considered.

Pursuant to 212.50 of the final rule, a number of previous or pending administrative decisions that allow, restrict, or prohibit motor vehicle use on National Forest System roads, trails or areas have been incorporated as previously designated into this travel planning project.

Possible Alternatives

All alternatives studied in detail must fall within the scope of the purpose and need for action and will tier to and comply with the Dixie forest plan. The added restrictions on motorized cross-country travel are the only proposed amendments to the forest plan at this time. Law requires a “no-action alternative”, which would maintain current allowances and restrictions for OHV use and motorized travel, as described in the current Dixie forest plan and travel plan. The Forest is expecting that public input will identify broad-scale or route-specific issues that may be addressed by modifying the proposed action to create a new alternative or alternatives.

Lead and Cooperating Agencies

Garfield, Iron, Kane, Piute, Washington, and Wayne Counties and the State of Utah are participating as cooperating agencies in this project. As lead agency, the Forest Service would analyze and document direct, indirect, and cumulative environmental effects for a range of alternatives.

Responsible Officials

Kevin Schulkoski, Acting Forest Supervisor of the Dixie National Forest, is currently the responsible official for the Dixie National Forest. He can be reached by mail at Dixie National Forest, 1789 N. Wedgewood Ln., Cedar City, UT 84720.

Mary Erickson, Forest Supervisor of the Fishlake National Forest, is the responsible official for the decision pertaining to the Fremont River Ranger District. She can be reached by mail at Fishlake National Forest, 115 East 900 North, Richfield UT 84701.

Nature of Decision To Be Made

On November 2, 2005, the Forest Service announced final travel management regulations governing OHVs and other motor vehicle use on national forests and grasslands (36 CFR parts 212, 251, 261, and 295 Travel Management; Designated Routes and Areas for Motor Vehicle Use; Final Rule). In compliance with this national policy, the Responsible Officials will decide on motorized areas and routes that will be added to or deleted from the current authorized system. The Responsible Officials will also decide on the type and season of motorized use to be allowed on the authorized system.

All routes not designated to the motorized travel system will be considered unauthorized routes, and motorized use of those routes will be illegal. Motorized cross-country travel will be prohibited except as specified for the purposes of dispersed camping, firewood gathering, emergency fire suppression, search and rescue, law enforcement, military operations and Forest Service administrative use, including uses authorized by permit. Any user-made motorized route that is developed after decision will be considered unauthorized and will be closed or removed by the Forest Service upon discovery. No public process or analysis will be necessary to remove such a route.

Methods of closing or removing unauthorized routes may vary and will be determined on a site-specific basis. Closure or removal methods for routes that are not designated as a part of this project will be disclosed prior to decision. Future proposals to change the designations made in this decision will undergo separate analysis and decision, conducted under the National Environmental Policy Act (NEPA).

Scoping Process

The first formal opportunity to comment on the Dixie National Forest Motorized Travel Planning Project is during the scoping process (40 CFR 1501.7), which begins with the issuance of this Notice of Intent. All comments, including the names, addresses and when provided, will be placed in the record and are available for public inspection. Mail comments to: Noelle Meier, Dixie National Forest, 1789 N. Wedgewood Ln., Cedar City, Utah, 84720.

The Forest Service is seeking comments from individuals, organizations, and local, state, and Federal agencies that may be interested in or affected by the proposed action. Comments may pertain to the nature and scope of the environmental, social, and economic issues, and possible alternatives related to the development of the travel management plan and EIS. Scoping notices have been sent to potentially affected persons and those that have expressed a continued interest in this project. Other interested individuals, organizations, or agencies may have their names added to the mailing list for this project at any time by submitting a request to: Noelle Meier, Project Team Leader, by mail at 1789 N. Wedgewood Ln., Cedar City, Utah 84720; or by phone at (435) 865-3700; FAX: (435) 865-3791; E-mail: comments_dixie_motorized_travel_plan@fs.fed.us. Additional information about this project can be found at http://www.fs.fed.us/r4/dixie/projects/MTP/index.shtml.

A series of public open houses are scheduled to explain the proposed travel plan and route designation process and to provide an opportunity for public input. Six scoping meetings are planned.

January 9, 2007 (Tuesday): Ramada Inn, 1440 East St. George Blvd., St. George, UT, 12 p.m. to 8 p.m.

January 10, 2007 (Wednesday): Hunter Conference Center, Southern Utah University, Cedar City, UT, 12 p.m. to 8 p.m.

January 11, 2007 (Thursday): City Library and Offices, 25 South 200 East, Panguitch, UT, 12 p.m. to 8 p.m.

January 18, 2007 (Thursday): Salt Lake City Library, Level 4 Meeting Room, 210 East 400 South, Salt Lake City, UT, 12 p.m. to 8 p.m.

January 24, 2007 (Wednesday): City Office and Community Center, Escalante, UT 12 p.m. to 8 p.m.

January 25, 2007 (Thursday): Wonderland Inn, Utah State Highways 12 and 24, Torrey, UT 12 p.m. to 8 p.m.

Times, dates and locations will also be posted through local public notice and on the project Web page at: http://www.fs.fed.us/r4/dixie/projects/MTP/index.shtml. Written comments will be accepted at these meetings. The Forest Service will also work with tribal governments to address issues that would significantly or uniquely affect them.

Preliminary Issues

Alternatives to the proposed action have not been identified at this time; however, the following preliminary issues have been identified:

• Compliance with policy and law, recognition of legal access.

• Protection of natural and cultural resources.

• Improvement of recreation opportunities, management, enforcement and education.

• Consideration of local economies.

• Increased public involvement.

Permits or Licenses Required

No permits or licenses are required to implement the proposed action and the issuing authority is the Forest Service.

Comment Requested

This notice of intent initiates the scoping process which guides the development of the environmental impact statement.

Early Notice of Importance of Public Participation in Subsequent Environmental Review:

A draft environmental impact statement will be prepared for comment. The comment period on the draft environmental impact statement will be 45 days from the date the Environmental Protection Agency publishes the notice of availability in the Federal Register. The Forest Service believes, at this early stage, it is important to give reviewers notice of several court rulings related to public participation in the environmental review process. First, reviewers of the DEIS must structure their participation in the environmental review of the proposal so that it is meaningful and alerts an agency to the reviewers' position and contentions. Vermont Yankee Nuclear Power Corp. v. NRDC, 435 U.S. 519, 553 (1978). Also, environmental objections that could have been raised at the DEIS stage but that are not raised until after completion of the final EIS may be waived or dismissed by the courts. City of Angoon v. Hodel, (9th Circuit, 1986) and Wisconsin Heritages, Inc. v. Harris, 490 F. Supp.1334. 1338 (E.D. Wis. 1980). Because of these court rulings, it is very important that those interested in this proposed action participate by the close of the 45-day comment period so that substantive comments and objections are made available to the Forest Service at the time it can meaningfully consider them and respond to them in the draft and final EIS.

To assist the Forest Service in identifying and considering issues and concerns about the proposed action, comments should be as specific as possible. Upon issuance of a draft EIS it would also be helpful if comments refer to specific pages or chapters of the draft statement. Comments may also address the adequacy of the statement or the merits of the alternatives formulated and discussed in the statement. Reviewers may wish to refer to the Council on Environmental Quality Regulations for implementing the procedural provisions of the National Environmental Policy Act at 40 CFR 1503.3 in addressing these points.

Dated December 5, 2006.
Kevin R. Schulkoski,
Acting Dixie Forest Supervisor.

[FR Doc. E6-21145 Filed 12-14-06; 8:45 am]

BILLING CODE 3410-11-P